DEPARTMENT OF LABOR

Employment and Training Administration

[TA-W-39,977, and NAFTA-05262]

Lamtech, LLC, Hartsville, TN; Notice of Negative Determination Regarding Application for Reconsideration

By application of January 21, 2002, the petitioner requested administrative reconsideration of the Department's negative determination regarding eligibility for workers and former workers of the subject firm to apply for Trade Adjustment Assistance (TAA) under petition TA-W-39,977 and North American Free Trade Agreement—Transitional Adjustment Assistance (NAFTA-TAA) under petition NAFTA-5262. The TAA and NAFTA-TAA denial notices applicable to workers of Lamtech, LLC, Hartsville, Tennessee, were signed on December 11, 2001 and published in the Federal Register on December 26, 2001 (66 FR 66426 & 66427, respectively).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition, filed on behalf of workers at Lamtech, LLC, Hartsville, Tennessee engaged in employment related to the production of sew stands and sew tops, was denied because the “contributed importantly” group eligibility requirement of section 222(3) of the Trade Act of 1974, as amended, was not met. The “contributed importantly” test is generally demonstrated through a survey of the workers' firm's customers. The survey revealed that none of the respondents increased their imports of products like or directly competitive with what the subject plant produced during the relevant period. The subject firm did not import sew stands and sew tops.

The NAFTA-TAA petition for the same worker group was denied because criteria (3) and (4) of the group eligibility requirements in paragraph (a) (1) of Section 250 of the Trade Act, as amended, were not met. The survey revealed that none of the respondents increased their imports of products like or directly competitive with what the subject plant produced from Canada or Mexico during the relevant period. The subject firm did not import (including Canada or Mexico) products like or directly competitive with what the subject plant produced, nor was the subject plant's production shifted from the workers' firm to Mexico or Canada.

The petitioner alleges that their major customers purchased imported products like or directly competitive with what the subject firm produced from foreign sources, specifically Mexico and Central America. The petitioner further states that some of their customers are purchasing products from other domestic sources that are importing.

The Department, as already indicated, examines the impact of imports (including Canada and Mexico) by a survey of the subject firm's major declining customers to examine if the “contributed importantly” test is met. The survey conducted during the initial investigation revealed that none of the respondents increased their imports (including Canada or Mexico), while decreasing their purchases from the subject firm during the relevant period.

The petitioner further attached a list of major declining customers with corresponding allegations concerning their customer purchases from foreign sources.

A review of the customer list revealed that some of the major customers were located in foreign countries. Also, some of the domestic customers on the list were surveyed during the initial investigation, the respondents as already indicated, did not increase their imports of products like or directly competitive with what the subject firm produced. A further review of the list in combination with the survey results and data supplied by the company further shows that some of the customers did not purchase any products from the subject firm during the relevant period and therefore cannot be considered customers of the subject firm. In conclusion, the Department's further review of the customer list provided supports the initial decision.

The petitioner further stated that the respondents may not have had an understanding of what they were being asked in the survey and also may not have answered in a factual manner.

The survey the Department conducted was specific to the products produced by the subject plant, as reported by the company. The respondents in the survey were provided with a Department contact if they needed any further clarification. In respect to the respondents reported results, they are reviewed and accepted if they appear to be filled out correctly. If further clarification of the customer response is necessary, the customer is contacted.

Conclusion

After review of the application and investigative findings, I conclude that there has been no error or misinterpretation of the law or of the facts which would justify reconsideration of the Department of Labor's prior decisions. Accordingly, the application is denied.

Signed at Washington, DC, this 29th day of March, 2002.
Edward A. Tomchick,
Director, Division of Trade Adjustment Assistance.

[FR Doc. 02-9340 Filed 4-16-02; 8:45 am]

BILLING CODE 4510-30-M